NATIONAL MEDIATION BOARD

29 CFR Part 1206

[Docket No. C-7034]

RIN 3140-ZA01

Representation Procedures and Rulemaking Authority

AGENCY: National Mediation Board.

ACTION: Proposed rule; notice of public hearing.

SUMMARY: The National Mediation Board (NMB or Board) extends an invitation to interested parties to attend an open public hearing with the Board and its staff on June 19, 2012. During the hearing, the NMB invites interested persons to share their views on the proposed rule changes related to the amendments to the Railway Labor Act (RLA) in the Federal Aviation Administration Modernization and Reform Act of 2012.

DATES: The hearing will be held on Tuesday, June 19, 2012 from 9 a.m. to 4 p.m. A second day may be scheduled for Wednesday, June 20, 2012 if necessary. Due to time and seating considerations, individuals desiring to attend the hearing, or to make a presentation before the Board, must notify the NMB staff, no later than 4 p.m. EDT on Friday, June 1, 2012.

ADDRESSES: The hearing will be held in the Margaret A. Browning Hearing Room (Room 11000), National Labor Relations Board, 1099 14th Street NW., Washington, DC 20570. Requests to attend the hearing must be addressed to Mary Johnson, General Counsel, National Mediation Board, 1301 K Street NW., Suite 250-East, Washington, DC 20005. Written requests may also be made electronically to legal@nmb.gov. All communications must include Docket No. C-7034.

FOR FURTHER INFORMATION CONTACT: Mary Johnson, General Counsel, National Mediation Board, 202-692-5050, infoline@nmb.gov.

SUPPLEMENTARY INFORMATION: The National Mediation Board will hold an open public hearing on Tuesday, June 19, 2012, from 9 a.m. until 4 p.m. The purpose of the hearing will be to solicit views of interested persons concerning proposed rule changes. On Tuesday, May 15, 2012, the NMB issued a Notice of Proposed Rulemaking (NPRM) (77 FR 28536), proposing to amend its rules in response to amendments to the RLA contained in the Federal Aviation Administration Modernization and Reform Act of 2012, Public Law 112-095 (FAA Reauthorization). These rule changes are proposed to be codified at 29 CFR part 1206. In addition to the comment procedure outlined in the NPRM, the NMB is providing another opportunity for interested persons to provide their views to the Board on this important matter.

The FAA Reauthorization amendments include a requirement that the Board change its rules according to the informal rulemaking procedures in the Administrative Procedure Act (APA), 5 U.S.C. 553, and “after the opportunity for a public hearing.” Because the language in the amendment does not trigger the stricter requirements in sections 556 and 557 of the APA, this hearing will comply with those informal rulemaking procedures under the APA. See, e.g. United States v. Allegheny-Ludlum Steel Corp., 406 US 742 (1972); Siegal v. Atomic Energy Comm'n, 400 F.2d 778, 785 (D.C. Cir. 1968) (holding that formal rulemaking procedures are only required where “the agency statute, in addition to providing a hearing, prescribes explicitly that it be `on the record.' ”).

Individuals desiring to attend the hearing must notify the NMB staff, in writing, at the above listed physical or email address by the deadline posted. If the individual desires to make a presentation to the Board at the hearing, he or she is required to submit a brief outline of the presentation when making the request. In addition, a full written statement must be submitted no later than 4 p.m. on Friday, June 15, 2012. In lieu of making an oral presentation, individuals may submit a written statement for the record.

To attend the hearing, all potential attendees must include in their request: (1) their full name and (2) organizational affiliation (if any). Attendees are reminded to bring a photo identification card with them to the public hearing in order to gain admittance to the building. Due to the time and potential space limitations in the hearing room, the NMB will notify individuals of their attendance and/or speaking status (i.e., preliminary time for their presentation) prior to the hearing. Time allocation for oral presentations will depend upon the number of individuals who desire to make presentations to the Board. Individuals should be prepared to summarize their written statements at the hearing.

Agenda: The hearing will be limited to issues related to the NMB's proposed rule changes appearing in the Federal Register on May 15, 2012 at 77 FR 28536-28538.

Dated: May 17, 2012.
Mary Johnson,
General Counsel, National Mediation Board.

[FR Doc. 2012-12412 Filed 5-21-12; 8:45 am]

BILLING CODE 7550-01-P